DEPARTMENT OF HEALTH AND HUMAN SERVICES

[Document Identifier: OS-0937-0025]

Agency Information Collection Request; 60-Day Public Comment Request

AGENCY: Office of the Secretary, HHS.

Agency Information Collection Request; 60-Day Public Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Application for Appointment as a Commissioned Officer in the United States Public Health Service Commissioned Corps, OMB No. 0937-0025 Revision, Office of Commissioned Corps Force Management, Office of Public Health and Science.

Abstract: Pursuant to the Paperwork Reduction Act of 1995, the Office of Commissioned Corps Force Management (OCCFM), Office of Public Health and Science (OPHS), requests that the Office of Management and Budget (OMB) approve form PHS-50, “Application for Appointment as a Commissioned Officer in the United States Public Health Service Commissioned Corps,” (OMB No. 0937-0025) and form PHS-1813, “Reference Request for Applicants to the United States Public Health Service Commissioned Corps” (OMB No. 0937-0025).

The principal purpose for collecting the information is to permit HHS to determine eligibility for appointment of applicants into the Commissioned Corps of the U.S. Public Health Service (Corps). The application packet pertains only to individual health professionals who wish to apply for appointment in the Corps. This is a request for a 3-year approval.

Estimated Annualized Burden Table
Forms (if necessary) | Type of respondent | Number of respondents | Number of responses per respondent | Average burden hours per response | Total burden hours
PHS-50 | Applicant to Corps | 2,500 | 1 | 1 | 2500
PHS-1813 | Reference for Applicant | 10,000 | 1 | 15/60 | 2500
Total |  | 12,500 | 1 |  | 5000

Seleda Perryman,
Office of the Secretary, Paperwork Reduction Act Reports Clearance Officer.

[FR Doc. 2010-3981 Filed 2-25-10; 8:45 am]

BILLING CODE 4150-28-P